DEPARTMENT OF AGRICULTURE

Forest Service

Martin Basin Rangeland Project

AGENCY: Forest Service, USDA.

ACTION: Notice of intent to prepare an environmental impact statement.

SUMMARY: The Santa Rosa Ranger District, Humboldt-Toiyabe National Forest will prepare an environmental impact statement (EIS) on a proposal to authorize continued livestock grazing within the Martin Basin Rangeland Project area. The analysis will determine if a change in management direction for livestock grazing is needed to move existing resource conditions within the Martin Basin Rangeland Project area towards desired conditions. The allotments within the project areas include Martin Basin, Indian, West Side Flat Creek, Buffalo, Bradshaw, Buttermild, Granite Peak and Rebel Creek. These allotments are located within the Quinn River Watershed and North Fork Little Humboldt River Watershed in Humboldt County, Nevada.

DATES: Comments concerning the scope of the analysis must be received by February 28, 2003. The draft environmental impact statement is expected July 2003 and the final environmental impact statement is expected September 2003.

ADDRESSES: Send written comments to District Ranger, Santa Rosa Ranger District, 1200 East Winnemucca Blvd., Winnemucca, Nevada 89445.

FOR FURTHER INFORMATION CONTACT: For further information, mail correspondence to or contact Steven Williams, Project Coordinator, at Santa Rosa Ranger District, 1200 East Winnemucca Blvd., Winnemucca, Nevada 89445. The telephone number is 775-623-5025, extension 112. E-mail address is swilliams01@fs.fed.us.

Purpose and Need for Action

There is a need to maintain or improve the condition of riparian resources and maintain or improve the overall health of the rangeland in the Martin Basin Rangeland Project area. The purpose of this project is to determine the management direction for livestock grazing needed to move existing resource conditions within the project area towards desired conditions.

Proposed Action

The Santa Rosa Ranger District, Humboldt-Toiyabe Nation Forest, is proposing to authorize continued cattle grazing in the Martin Basin Rangeland Project area under updated grazing management direction in order to move existing rangeland resource conditions within the project area toward desired condition. The updated direction will be incorporated in attendant grazing permits and allotment management plans to guide grazing management within the project area during the coming decade, or until amendments are warranted based on changed condition or monitoring.

Possible Alternatives

In addition to the proposed action we have tentatively identified two additional alternatives that will be analyzed in the EIS.

(1) No Act Alternative: This would be continuation of the current grazing management.

(2) No Grazing Alternative: This would be not issuing new grazing permits when existing permits expire.

Responsible Official

Jose Noriega, District Ranger, Santa Rosa Ranger District, 1200 East Winnemucca Blvd., Winnemucca, Nevada 89445

Nature of Decision To Be Made

Based on the environmental analysis on the EIS the District Ranger will decide whether or not to continue grazing on the allotment within the Martin Basin project area in accordance with the standards in the proposed action or as modified by additional mitigation measures and monitoring requirements.

Scoping Process

The Forest Service will use a mailing of information to interested parties. Public involvement will be ongoing throughout the analysis process and at certain times public input will be specifically requested. There are currently no scoping meetings planned.

Preliminary Issues

The following are some potential issues identified through internal Forest Service scoping based on our experience with similar projects. The list is not considered all-inclusive, but should be viewed as a starting point. We are asking you to help us further refine the issues and identify other issues or concerns relevant to the proposed project.

• Continued livestock grazing has the potential to adversely affect water quality in the Quinn River/Blackrock Basin and the Humboldt River Basin.

• Continued livestock grazing has the potential to adversely affect habitat for Lahontan Cutthroat trout a Federally listed species found in the Quinn River/Blackrock Basin and the Humboldt Basin.

• Continued livestock grazing has the potential to adversely affect heritage resources within the project area.

• Continued livestock grazing has the potential to adversely affect vegetation, which may result in a decline in the long-term productivity of the land base.

• Continued livestock grazing is currently affecting the health of some aspen stands.

• Continued livestock grazing affects trails, trailheads, and dispersed recreation sites.

• Continued livestock grazing has the potential to adversely affect wilderness values.

Comment Requested

This notice of intent initiates the scoping process which guides the development of the environmental impact statement. Submit comments stating your concerns and issues that are relevant to the proposed project. Comments will be used to help establish the scope or studies and analysis for the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewers's position and contentions. Vermont Yankee Nuclear Power Corp v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Hertages, Inc. v. Harris, 490 F. Supp. 1334, 1338 (E.D. Wis. 1980). Because of these courts rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: December 20, 2002.
Jose Noriega,
District Ranger.

[FR Doc. 02-32861 Filed 12-27-02; 8:45 am]

BILLING CODE 3410-11-M